FEDERAL COMMUNICATIONS COMMISSION

Public Information Collection(s) Requirement Submitted to OMB for Emergency Review and Approval

September 16, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 27, 2003. If you anticipate that you will be submitting comments, but find it difficult to do so within the period of time allowed by this notice, you should advise the contacts listed below as soon as possible.

ADDRESSES: Direct all comments to Kim A. Johnson, Office of Management and Budget, Room 10236 NEOB, Washington, DC 20503, (202) 395-3562 or via Internet at Kim_A._Johnson@omb.eop.gov, and Les Smith, Federal Communications Commission, Room 1-A804, 445 12th Street, SW., Washington, DC 20554 or via Internet to Leslie.Smith@fcc.gov.

FOR FURTHER INFORMATION CONTACT: For additional information or copies of the information collections contact Les Smith at (202) 418-0217 or via Internet at Leslie.Smith@fcc.gov.

SUPPLEMENTARY INFORMATION: The Commission has requested emergency OMB review of this collection with an approval by September 16, 2003.

OMB Control Number: 3060-0027.

Type of Review: Revision of a currently approved collection.

Title: Application for Construction Permit for Commercial Broadcast Station, FCC Form 301.

Form Number: FCC 301.

Respondents: Business or other for-profit entities; Not-for-profit institutions.

Number of Respondents: 3,370.

Estimated Time Per Response: 37 to 121 hours.

Frequency of Response: On occasion requirements; Third party disclosure.

Total Annual Burden: 7,427 hours.

Total Annual Cost: $35,485,300.

Needs and Uses: On September 3, 2003, the United States Court of Appeals for the Third Circuit issued an Order staying the effectiveness of the new media ownership rules adopted by the Commission on June 2, 2003. (Report and Order, MB Docket 02-277 and MM Dockets 01-235, 01-317, and 00-244, and Notice of Proposed Rulemaking, In The Matter of 2002 Biennial Regulatory Review—Review of the Commission's Broadcast Ownership Rules and Other Rules Adopted Pursuant to Section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules. Because FCC Form 301(June 2002) was supposed to have expired in August 2003 but was superceded by the July 2003 version, we are now requesting immediate reactivation of the previously approved version of this form.

FCC Form 301 is used to apply for authority to construct a new commercial AM, FM, or TV broadcast station, or to make changes in existing facilities of such a station. In addition, FM licensees or permittees may request, by application on FCC Form 301, upgrades on adjacent and co-channels, modifications to adjacent channels of the same class and downgrades to adjacent channels without first submitting a petition for rulemaking. All applicants using this one-step process must demonstrate that a suitable site exists which would comply with allotment standards with respect to minimum distance separation and city-grade coverage and which would be suitable for tower construction. To receive authorization for commencement of Digital Television (“DTV”) operation, commercial broadcast licensees must file FCC Form 301 for a construction permit. This application may be filed anytime after receiving the initial DTV allotment but must be filed before mid-point in a particular applicant's required construction period. The Commission will consider these applications as minor changes in facilities. Applications will not have to supply full legal or financial qualification information.

Federal Communications Commission.
Marlene H. Dortch,
Secretary.

[FR Doc. 03-24331 Filed 9-25-03; 8:45 am]

BILLING CODE 6712-01-P